DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Teresita L. Briones, Ph.D., Wayne State University: Based on the report of an inquiry conducted by Wayne State University (WSU) and additional analysis conducted by ORI in its oversight review, ORI found that Dr. Teresita L. Briones, former Associate Professor, College of Nursing, WSU, engaged in research misconduct in research supported by National Institute of Nursing Research (NINR), National Institutes of Health (NIH), grants P30 NR009014, R01 NR005260, and R01 NR007666.

ORI found that Respondent intentionally, knowingly, and recklessly engaged in research misconduct by falsifying and/or fabricating data that were included in five (5) publications and three (3) grant applications submitted to NINR, NIH:

Behavioural Brain Research 279:112-22, 2015 Feb 15 (hereafter referred to as “BBR 2015”)

• Journal of Neuroinflammation 11:13, 2014 Jan 22 (hereafter referred to as “JNI 2014”)

• Journal of Neurotrauma 26(4):613-25, 2009 Apr (hereafter referred to as “JNT 2009”)

• Journal of Neurotrauma 28(12):2485-92, 2011 Dec (hereafter referred to as “JNT 2011”)

• Neuroscience 262:143-55, 2014 Mar 14 (hereafter referred to as “NS 2014”)

• R01 NR011167-01

• R01 NR011167-01A1

• R01 NR 011167-01A2

ORI found that Respondent falsified and/or fabricated data by falsely reporting the results of Western blot experiments that examined neuroinflammation, amyloidogenesis, and/or cognitive impairment in a rat model of cerebral ischemia. Specifically, Respondent duplicated, reused, and falsely relabeled Western blot gel images and claimed they represented different experiments in:

• BBR 2015, Figures 2E and 5D

• JNI 2014, Figures 2A and 2C

• JNT 2009, Figures 2B and 5

• JNT 2011, Figure 2

• NS 2014, Figure 4

• R01 NR011167-01, Figures 5 and 6

• R01 NR011167-01A1, Figures 4A and 4B

• R01 NR011167-01A2, Figures 4A and 4B

As a result of this Agreement, Respondent will request that the following publications be retracted: BBR 2015, JNI 2014, JNT 2009, JNT 2011, and NS 2014.

Dr. Briones has entered into a Voluntary Exclusion Agreement (Agreement) and has voluntarily agreed for a period of three (3) years, beginning on March 12, 2015:

(1) to exclude herself from any contracting or subcontracting with any agency of the United States Government and from eligibility for or involvement in nonprocurement programs of the United States Government referred to as “covered transactions” pursuant to HHS' Implementation (2 CFR part 376 et seq) of OMB Guidelines to Agencies on Governmentwide Debarment and Suspension, 2 CFR part 180 (collectively the “Debarment Regulations”);

(2) to exclude herself voluntarily from serving in any advisory capacity to the U.S. Public Health Service (PHS) including, but not limited to, service on any PHS advisory committee, board, and/or peer review committee, or as a consultant; and

(3) to request that the following publications be retracted: BBR 2015, JNI 2014, JNT 2009, JNT 2011, and NS 2014.

FOR FURTHER INFORMATION CONTACT: Acting Director, Office of Research Integrity, 1101 Wootton Parkway, Suite 750, Rockville, MD 20852, (240) 453-8200.

Donald Wright,
Acting Director, Office of Research Integrity.

[FR Doc. 2015-07896 Filed 4-6-15; 8:45 am]

BILLING CODE CODE 4150-31-P